DEPARTMENT OF TRANSPORTATION

Research and Special Programs Administration

Pipeline Safety: Development of Consensus Standards on Pipeline Public Awareness Programs

AGENCY: Office of Pipeline Safety, Research and Special Programs Administration, DOT.

ACTION: Notice of development of consensus standards.

SUMMARY: Trade associations for the natural gas and hazardous liquid pipeline industry are working together to develop consensus standards to expand the public awareness programs that pipeline operators conduct, and to further involve the local communities in ensuring pipeline safety. This notice provides information about how the public can participate in this consensus standard-setting process. The Research and Special Program Administration's (RSPA) Office of Pipeline Safety (OPS) is committed to improving the public education programs that are a part of the pipeline safety public awareness programs. Public participation is being sought as part of this standard-setting for industry public awareness programs, with the expected result of improved public education regarding pipeline safety.

Background

Current Federal regulations require that pipeline operators conduct public education campaigns so that members of the public, excavators, residents along pipeline rights-of-way, emergency responders and local officials understand what to do in a pipeline emergency. OPS has encouraged pipeline operators to review existing programs and to make needed improvements. The National Transportation Safety Board has also issued a recommendation urging that gas and hazardous liquid pipeline operators increase public education about pipeline safety operations.

In response to concerns raised by RSPA, the American Petroleum Institute (API) has initiated a revision of its Recommended Practice (RP) 1123, Development of Public Awareness Programs. This document was originally issued for use by API members which transport petroleum and other hazardous liquids. However, the need for public education standards extends beyond hazardous liquid operators. To promote a standardized approach to public education among pipeline operators, OPS encouraged natural gas pipeline operators to work with their colleagues in the liquid pipeline industry on the API revision of recommended practice. The recommended practice, upon completion of this consensus standard-setting process, will be assigned a new ANSI identification number, and will be referred to in that manner in all future correspondence.

The Interstate Natural Gas Association of America, the American Gas Association and the American Public Gas Association have joined API in this effort. This collaborative process will bring a measure of consistency to such programs throughout the industry, and will expand the effort to include public education not solely of pipeline operators, but of all relevant stakeholders. However, this revised recommended practice would apply to existing pipelines only.

RSPA in interested in the success of this effort because OPS had already begun work in the area of public education. In the fall of 2000, at the request of the OPS Technical Hazardous Liquid Pipeline Safety Standards Committee (THLPSSC), OPS formed a group with equal representation from government, industry and public sectors to explore this issue. OPS also held a well-attended public meeting in February 2001 to solicit input on the information needs of the public and other audiences.

The revision of the recommended practice will provide guidelines that operators can use to develop or improve existing public awareness and community outreach programs. In advance of this revision, API surveyed a number of its members to determine the effectiveness of existing public awareness programs and to identify areas which required improvement. The results of this survey are being used to help guide the revision of the recommended practice, which is expected to be complete by the end of 2002.

The API has created a Web site, http://www.api.org/pipelinepublicawareness to obtain informal, early feedback and to solicit public input. OPS hopes that the public will take this opportunity to provide its comments. It is important to note that the American National Standards Institute (ANSI) will also provide the opportunity for formal Notice and Comment on the revision of the recommended practice. OPS urges interested parties to submit their remarks on the completed revision to ANSI.

OPS, as the Federal government representative, and the National Association of Pipeline Safety Representatives (NAPSR), the body representing the State pipeline safety agencies, are participating in this process as observers. After industry has finalized the revision, OPS will decide whether or not to adopt it as a regulatory requirement. Alternatively, OPS may adopt only those portions of the document that meet its needs. While OPS has encouraged this process, the decision on whether to adopt this standard has not been pre-determined. If OPS decides to incorporate the revised recommended practice by reference, a Notice of Proposed Rulemaking will be published in the Federal Register for public comment.

FOR FURTHER INFORMATION CONTACT: Mary-Jo Cooney, OPS, (202) 366-4774, regarding the subject matter of this notice.

Issued in Washington, DC, on May 10, 2002.
Jeffrey D. Wiese,
Manager, Program Development, Office of Pipeline Safety.

[FR Doc. 02-12168 Filed 5-14-02; 8:45 am]

BILLING CODE 4910-60-P